DEPARTMENT OF HOMELAND SECURITY

Federal Emergency Management Agency

44 CFR Part 64

[Docket No. FEMA-7770]

List of Communities Eligible for the Sale of Flood Insurance

AGENCY: Federal Emergency Management Agency, Emergency Preparedness and Response Directorate, Department of Homeland Security.

ACTION: Final rule.

SUMMARY: This rule identifies communities participating in the National Flood Insurance Program (NFIP) and suspended from the NFIP. These communities have applied to the program and have agreed to enact certain floodplain management measures. The communities' participation in the program authorizes the sale of flood insurance to owners of property located in the communities listed.

EFFECTIVE DATES: The dates listed under the column headed Effective Date of Eligibility.

ADDRESSES: Flood insurance policies for property located in the communities listed can be obtained from any licensed property insurance agent or broker serving the eligible community, or from the NFIP at: (800) 638-6620.

FOR FURTHER INFORMATION CONTACT: Mike Grimm, Mitigation Division, 500 C Street, SW.; Room 412, Washington, DC 20472, (202) 646-2878.

SUPPLEMENTARY INFORMATION: The NFIP enables property owners to purchase flood insurance which is generally not otherwise available. In return, communities agree to adopt and administer local floodplain management measures aimed at protecting lives and new construction from future flooding. Since the communities on the attached list have recently entered the NFIP, subsidized flood insurance is now available for property in the community.

In addition, the Federal Emergency Management Agency has identified the special flood hazard areas in some of these communities by publishing a Flood Hazard Boundary Map (FHBM) or Flood Insurance Rate Map (FIRM). The date of the flood map, if one has been published, is indicated in the fourth column of the table. In the communities listed where a flood map has been published, Section 202 of the Flood Disaster Protection Act of 1973, as amended, 42 U.S.C. 4016(a), requires the purchase of flood insurance as a condition of Federal or federally related financial assistance for acquisition or construction of buildings in the special flood hazard areas shown on the map.

The Administrator finds that delayed effective dates would be contrary to the public interest and that notice and public procedure under 5 U.S.C. 553(b) are impracticable and unnecessary.

National Environmental Policy Act. This rule is categorically excluded from the requirements of 44 CFR Part 10, Environmental Considerations. No environmental impact assessment has been prepared.

Regulatory Flexibility Act. The Administrator certifies that this rule will not have a significant economic impact on a substantial number of small entities in accordance with the Regulatory Flexibility Act, 5 U.S.C. 601 et seq., because the rule creates no additional burden, but lists those communities eligible for the sale of flood insurance.

Regulatory Classification. This final rule is not a significant regulatory action under the criteria of section 3(f) of Executive Order 12866 of September 30, 1993, Regulatory Planning and Review, 58 FR 51735.

Paperwork Reduction Act. This rule does not involve any collection of information for purposes of the Paperwork Reduction Act, 44 U.S.C. 3501 et seq.

Executive Order 12612, Federalism. This rule involves no policies that have federalism implications under Executive Order 12612, Federalism, October 26, 1987, 3 CFR, 1987 Comp., p. 252.

Executive Order 12778, Civil Justice Reform. This rule meets the applicable standards of section 2(b)(2) of Executive Order 12778, October 25, 1991, 56 FR 55195, 3 CFR, 1991 Comp., p. 309.

List of Subjects in 44 CFR Part 64

Flood insurance, Floodplains.

Accordingly, 44 CFR part 64 is amended as follows:

PART 64—[AMENDED]

1. The authority citation for Part 64 continues to read as follows:

Authority: 42 U.S.C. 4001 et seq., Reorganization Plan No. 3 of 1978, 3 CFR, 1978 Comp., p. 329; E.O. 12127, 44 FR 19367, 3 CFR, 1979 Comp., p. 376.

§ 64.6 [Amended]

2. The tables published under the authority of § 64.6 are amended as follows:

State and location | Community No. | Effective date of eligibility | Current effective map date
New Eligibles: Emergency Program
Vermont: Westford, Town of, Chittenden County | 500203 | August 4, 2003 | January 31, 1975, FHBM.
Mississippi: Jasper County, Unincorporated Areas | 280302 | August 12, 2003 | February 24, 1978, FHBM.
Tennessee: Wayne County, Unincorporated Areas | 470199 | August 15, 2003 | March 16, 1979, FHBM.
Missouri: Clarksdale, City of, DeKalb County | 290630 | August 18, 2003 | February 21, 1975, FHBM, Rescinded.
Kansas: Douglas, City of, Butler County | 200489 | August 21, 2003 | July 18, 1975, FHBM, Rescinded.
Colorado: Johnstown, Town of, Weld County | 080250 | August 22, 2003
Minnesota: Waverly, City of, Wright County | 270666 | September 15, 2003 | January 17, 1975, FHBM.
Kentucky: Letcher County, Unincorporated Areas | 210289 | ......do* | September 2, 1977, FHBM.
North Carolina: Belville, Town of, Brunswick County | 370545 | ......do
Missouri: Hillsboro, City of, Jefferson County | 290573 | September 25, 2003 | October 22, 1976, FHBM.
Florida: Sebring, City of, Highlands County | 120690 | September 29, 2003
Idaho: Oneida County, Unincorporated Areas | 160229 | October 10, 2003
Ohio: Glendale, Village of, Hamilton County | 390217 | October 22, 2003
South Dakota: Fall River County, Unincorporated Areas | 460238 | October 28, 2003 | November 1, 1977, FHBM.
Texas: Ward County, Unincorporated Areas | 481249 | November 7, 2003 | October 25, 1977, FHBM.
Tennessee: Adams, City of, Robertson County | 470159 | November 26, 2003 | November 15, 1974, FHBM.
New Eligibles: Regular Program
Alabama:
Pike Road, Town of, Montgomery County ** | 010433 | August 4, 2003 | August 4, 2003.
Clay, City of, Jefferson County ¹ | 010446 | August 18, 2003
Michigan: Lake Angelus, City of, Oakland County | 260700 | ......do | April 15, 1986.
Kansas: Spring Hill, City of, Johnson County | 200178 | September 3, 2003 | June 17, 2002.
Missouri: Sheridan, City of, Worth County * | 290523 | ......do | September 3, 2003.
Iowa:
Eagle Grove, City of, Wright County | 190928 | September 4, 2003 | NSFHA.
Gray, City of, Audubon County * | 190318 | ......do | April 2, 2001.
Florida: Sunny Isles Beach, City of, Miami-Dade County ² | 120688 | September 10, 2003
Tennessee: Coopertown, Town of, Robertson County ³ | 470423 | September 15, 2003
Florida: Lake Alfred, City of Polk County | 120667 | September 24, 2003 | December 20, 2000.
Missouri: Stockton, City of, Cedar County | 290667 | September 25, 2003 | July 17, 2002.
Tennessee: Belle Meade, City of, Davidson County | 470408 | September 29, 2003 | April 20, 2001.
Florida:
Hilliard, Town of, Nassua County * | 120573 | October 1, 2003 | October 1, 2003.
Eagle Lake, City of, Polk County | 120385 | ......do | December 20, 2000.
Missouri:
Dalton, Village of, Chariton County * | 290464 | October 10, 2003 | March 17, 2003.
Willard, City of, Greene County * | 290653 | ......do | August 4, 2003.
Worth County, Unincorporated Areas * | 290842 | ......do | September 3, 2003.
Missouri:
Arcola, Village of, Dade County * | 290930 | October 22, 2003 | July 17, 2002.
Lockwood, City of, Dade County * | 290682 | ......do | Do.
Niangua, City of, Webster County * | 290552 | ......do | Do.
North Carolina: Fletcher, Town of, Henderson County⁴ | 370568 | October 28, 2003
Ohio: Vinton, Village of, Gallia County * | 390189 | ......do | October 16, 2003.
Arkansas: Goshen, City of, Washington County | 050594 | October 30, 2003 | December 20, 2000.
Alabama: Randolph County, Unincorporated Areas | 010182 | November 5, 2003 | July 5, 1982.
North Carolina: Duck, Town of, Dare County ⁵ | 370632 | November 6, 2003
Texas: Live Oak County, Unincorporated Areas* | 481179 | November 19, 2003 | November 19, 2003.
New Mexico: San Juan County, Unincorporated Areas | 350064 | November 21, 2003 | May 15, 2002.
Reinstatements
Maine: Allagash, Town of, Aroostook County | 230440 | March 19, 1974, Emerg.; August 5, 1985, Reg.; April 2, 2003, Susp.; August 4, 2003, Rein | April 2, 2003.
North Carolina: Scotland County, Unincorporated Areas | 370316 | July 30, 1975, Emerg.; December 6, 1988, Reg.; June 17, 2003, Susp.; August 8, 2003, Rein | June 17, 2003.
New York: Conquest, Town of, Cayuga County | 360108 | June 24, 1977, Emerg.; April 4, 1983, Reg.; November 4, 1992, Susp.; August 11, 2003, Rein | October 20, 1998.
Wisconsin:
Oregon, Village of, Dane County | 550089 | May 28, 1974, Emerg.; September 30, 1980, Reg.; June 18, 2003, Susp.; September 8, 2003, Rein | June 17, 2003.
Verona, City of, Dane County | 550092 | June 24, 1975, Emerg.; August 1, 1980, Reg.; June 18, 2003, Susp.; September 8, 2003, Rein | June 17, 2003.
Pennsylvania: Bedminster, Township of, Bucks County | 421049 | February 5, 1976, Emerg.; December 1, 1983, Reg.; September 4, 2003, Susp.; September 12, 2003, Rein | September 3, 2003.
Missouri: Denver, Village of, Worth County | 290453 | January 25, 1977, Emerg.; September 4, 1985, Reg.; September 4, 2003, Susp.; September 15, 2003, Rein | September 3, 2003.
Vermont: Cornwall, Town of, Addison County | 500317 | April 30, 1975, Emerg.; September 27, 1985, Reg.; June 4, 1990, Susp.; September 15, 2003, Rein | September 27, 1985.
Michigan: Hendricks, Township of, Mackinac County | 260806 | June 5, 1987, Emerg.; September 30, 1988, Reg.; September 30, 1988, Susp.; November 7, 2003, Rein | November 4, 1992.
Wisconsin: Fitchburg, City of, Dane County | 550610 | August 23, 2001, Reg.; June 18, 2003, Susp.; November 19, 2003, Rein | June 17, 2003.
Suspensions
Pennsylvania: Bedminster, Township of, Bucks County | 421049 | February 5, 1976, Emerg.; December 1, 1983, Reg.; September 4, 2003, Susp | September 3, 2003.
Missouri: Denver, Village of, Worth County | 290453 | January 25, 1977, Emerg.; September 4, 1985, Reg.; September 4, 2003, Susp | September 3, 2003.
Ohio: Crown City, Village of, Gallia County | 390187 | April 22, 1983, Emerg.; July 5, 1983, Reg.; October 22, 2003, Susp | October 16, 2003.
Illinois:
Alorton, Village of, St. Clair County | 170617 | April 26, 1974, Emerg.; June 4, 1980, Reg.; November 7, 2003, Susp | November 5, 2003.
Brooklyn, Village of, St. Clair County | 170619 | May 1, 1974, Emerg.; March 28, 1980, Reg.; November 7, 2003, Susp | November 5, 2003.
Fayetteville, Village of, St. Clair County | 170628 | May 12, 1976, Emerg.; June 15, 1981, Reg.; November 7, 2003, Susp | November 5, 2003.
Freeburg, Village of, St. Clair County | 170790 | March 24, 1976, Emerg.; January 18, 1980, Reg.; November 7, 2003, Susp | November 5, 2003.
New Athens, Village of, St. Clair County | 170632 | September 3, 1975, Emerg.; March 23, 1984, Reg.; November 7, 2003, Susp | November 5, 2003.
Summerfield, Village of, St. Clair County | 170636 | August 11, 1976, Emerg.; August 10, 1979, Reg.; November 7, 2003, Susp | November 5, 2003.
Mississippi: Puckett, Township of, Rankin County | 280147 | May 22, 1987, Emerg.; December 1, 1990, Reg.; November 6, 2003, Susp | November 5, 2003.
Withdrawal
Mississippi: Pachuta, Town of, Clarke County | 280219 | August 18, 2003 | April 2, 1986.
Probation Removal
West Virginia: Oceana, Town of, Wyoming County | 540219 | October 25, 2003 | July 16, 2003.
Regular Program Conversions and Revisions
Region III
Pennsylvania: Bedminster, Township of, Bucks County | 421049 | September 3, 2003, Suspension Rescinded | September 3, 2003.
Plumstead, Township of, Bucks County | 420199 | ......do | Do.
Region VII
Missouri: Denver, Village of, Worth County | 290453 | ......do | Do.
Region I
Massachusetts: Scituate, Town of, Plymouth County | 250282 | October 16, 2003, Suspension Rescinded | October 16, 2003.
Ohio:
Cheshire, Village of, Gallia County | 390186 | ......do | Do.
Crown City, Village of, Gallia County | 390187 | ......do | Do.
Gallia County, Unincorporated Areas | 390185 | ......do | Do.
Gallipolis, City of, Gallia County | 390188 | ......do | Do.
Rio Grande, Village of, Gallia County | 390879 | ......do | Do.
Vinton, Village of, Gallia County | 390189 | ......do | Do.
* do and Do. = ditto.
** Designates communities converted from Emergency Phase of participation to the Regular Phase of participation.
¹ The City of Clay has adopted Jefferson County (CID #010217) FIRM dated January 20, 1999, panels 0203 and 0204.
² The City of Sunny Isles Beach adopted Miami-Dade County (CID #120635) FIRM dated March 2, 1994, panels 0082 and 0084.
³ The Town of Coopertown has adopted Robertson County (CID #470158) FIRM dated June 15, 1984, panels 0095, 0115, 0155 and 0160.
⁴ The Town of Fletcher adopted Henderson County (CID #370125) FIRM dated March 1, 1982, panels 0015 and 0020.
⁵ The Town of Duck has adopted Dare County (CID #370362) FIRM dated May 5, 2003, panels 0006, 0007, 0008, 0009, 0016, 0017, 0019, 0036 and 0038.
Code for reading fourth and fifth columns: Emerg.—Emergency; Reg.—Regular; Rein.—Reinstatement; Susp.—Suspension; With.—Withdrawn; NSFHA—Non Special Flood Hazard Area.

(Catalog of Federal Domestic Assistance No. 83.100, “Flood Insurance”)
Dated: January 20, 2004.
Anthony S. Lowe,
Mitigation Division Director, Emergency Preparedness and Response Directorate.

[FR Doc. 04-3187 Filed 2-12-04; 8:45 am]

BILLING CODE 6718-05-P